DEPARTMENT OF THE INTERIOR

National Park Service

[NPS-WASO-NAGPRA-NPS0039465; PPWOCRADN0-PCU00RP14.R50000]

Notice of Intended Repatriation: Nelson Gallery Foundation (d/b/a The Nelson-Atkins Museum of Art), Kansas City, MO

AGENCY: National Park Service, Interior.

ACTION: Notice.

SUMMARY: In accordance with the Native American Graves Protection and Repatriation Act (NAGPRA), The Nelson Gallery Foundation, in consultation with the appropriate Indian Tribes or Native Hawaiian organizations, intends to repatriate a certain cultural item that meets the definition of an object of cultural patrimony and that has a cultural affiliation with the Indian Tribes or Native Hawaiian organizations in this notice.

DATES: Repatriation of the cultural items in this notice may occur on or after April 17, 2025.

ADDRESSES: Reagan Duplisea, Registrar for Collections, The Nelson-Atkins Museum of Art, 4525 Oak Street, Kansas City, MO 64111, telephone (816) 751-1332, email rduplisea@nelson-atkins.org.

SUPPLEMENTARY INFORMATION: This notice is published as part of the National Park Service's administrative responsibilities under NAGPRA. The determinations in this notice are the sole responsibility of the Nelson Gallery Foundation, and additional information on the determinations in this notice, including the results of consultation, can be found in the summary or related records. The National Park Service is not responsible for the determinations in this notice.

Abstract of Information Available

One item has been requested for repatriation. The 2003.11 claim qualifies as an object of cultural patrimony. It is a human head effigy jar. On June 12, 2003, The Nelson-Atkins Museum of Art purchased the cultural item from Dr. James F. Cherry, Fayetteville, AR. The object was accessioned into the Nelson-Atkin's collection on May 19, 2003.

A formal repatriation request was made by Carrie V. Wilson, Quapaw Nation NAGPRA Director, on December 3, 2024. The human head effigy jar is a tan-colored ceramic jar, modeled in the form of a human head, with incised designs on face and red-painted hair. It is estimated to have been made between A.D. 1450-1650. The jar is an object of cultural patrimony. It appears to represent a venerated ancestor or person of great political or social significance. The eyes are visibly open, and speech glyphs of incised curving lines extending from the mouth are believed to symbolize the act of speech.

The specific function of head effigy jars is unknown, as was the nature of their contents. Many were used in some fashion, however, perhaps ritually; these pots show unmistakable evidence of use and wear, especially at the base and around the projecting ears and rims. Significantly, this clearly indicates that the vessels were not made exclusively for inclusion in burials. They were rare during the period in which they were produced, and this rarity has extended to the present. Only 138, including broken and fragmentary vessels, are known to have survived among the thousands of extant Mississippian pots. Of these, whole pots are extremely rare.

This jar was found in 1985 by Arnold Moore of Kennett, Missouri, at the Chickasawba site, Mississippi County, Arkansas. The Chickasawba site was a large village covering at least 20 acres, occupied in various locations over a long period, and located around one large temple mound. The site, numbered 3MS5, is located on private property. The pot was legally excavated and was not associated with a burial. It was located at a depth of approximately 4 ½ feet in a “sand blow” 8 to 10 feet wide within the village site and northwest of the mound. (Geologists generally agree that these sand blow formations occurred during the great New Madrid earthquakes of 1811-12.)

Dr. James Cherry, generally regarded as one of the foremost experts of Mississippian head effigy jars, began his extensive study in 1981. He purchased this jar from Mr. Moore in 1996.

Ms. Wilson from the Quapaw Nation consulted with the Museum onsite in early December 2024 with Curator of Native American Art, Tahnee Ahtone.

Determinations

The Nelson Gallery Foundation has determined that:

• The one object of cultural patrimony described in this notice has ongoing historical, traditional, or cultural importance central to the Native American group, including any constituent sub-group (such as a band, clan, lineage, ceremonial society, or other subdivision), according to the Native American traditional knowledge of an Indian Tribe or Native Hawaiian organization.

• There is a reasonable connection between the cultural item described in this notice and the Quapaw Nation.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after April 17, 2025. If competing requests for repatriation are received, the Nelson Gallery Foundation must determine the most appropriate requestor prior to repatriation. Requests for joint repatriation of the cultural item are considered a single request and not competing requests. The Nelson Gallery Foundation is responsible for sending a copy of this notice to the Indian Tribes and Native Hawaiian organizations identified in this notice and to any other consulting parties.

Authority: Native American Graves Protection and Repatriation Act, 25 U.S.C. 3004 and the implementing regulations, 43 CFR 10.9.

Dated: February 4, 2025.
Melanie O'Brien,
Manager, National NAGPRA Program.

[FR Doc. 2025-04356 Filed 3-17-25; 8:45 am]

BILLING CODE 4312-52-P